DEPARTMENT OF ENERGY

Federal Energy Regulatory Commission

[Project No. 516]

South Carolina Electric & Gas Company; Notice of Meeting to Discuss Construction Status for Saluda Dam

January 17, 2003.

The Federal Energy Regulatory Commission (FERC) will hold an informational meeting to discuss ongoing construction activities and scheduling for the Saluda Seismic Remediation Project, FERC No. 516. The Saluda Project is located on the Saluda River in Richland, Lexington, Saluda, and Newberry counties, near Columbia, South Carolina.

South Carolina Electric & Gas Company (SCE&G) issued the contract for construction on August 12, 2002 to Barnard Construction Company. Mobilization of construction equipment and site preparation work has started. Work, including installation of a complex dewatering system, is underway with a considerable number of wells installed. Many other construction activities are ongoing.

The informational meeting will take place on February 6, 2003 from 6-8:30 p.m. at the Embassy Suites Hotel, Columbia-Greystone, 200 Stoneridge Drive, Columbia, SC 29210. FERC and SCE&G staff will discuss ongoing activities and schedule and respond to questions.

Please direct any questions about this meeting to Constantine G. Tjoumas at (202) 502-6734.

Magalie R. Salas,
Secretary.

[FR Doc. 03-1616 Filed 1-23-03; 8:45 am]

BILLING CODE 6717-01-P